ENVIRONMENTAL PROTECTION AGENCY

[EPA-HQ-TRI-2007-0355; FRL-8507-5]

Agency Information Collection Activities, Proposed Collections; Toxic Chemical Release Reporting; Request for Comments on Proposed Changes and the Renewal of Form R (EPA ICR No. 1363.15, OMB Control No. 2070-0093)

AGENCY: Environmental Protection Agency (EPA).

ACTION: Notice.

SUMMARY: In compliance with the Paperwork Reduction Act (PRA) (44 U.S.C. 3501 et seq.), this document announces that an Information Collection Request (ICR) has been forwarded to the Office of Management and Budget (OMB) for review and approval. This is a request to make changes to and renew an existing approved collection. The ICR Supporting Statement, which is abstracted below, describes the nature of the information collection (including proposed minor form changes) and its estimated burden and cost.

DATES: Additional comments may be submitted on or before January 16, 2008.

ADDRESSES: Submit your comments, referencing Docket ID No. EPA-HQ-TRI-2007-0355, to (1) EPA online using http://www.regulations.gov (our preferred method), by e-mail to oei.docket@epa.gov, or by mail to EPA Docket Center, U.S. Environmental Protection Agency, Mail Code 2822T, 1200 Pennsylvania Ave., NW., Washington, DC 20460, and (2) OMB by mail to Office of Information and Regulatory Affairs, Office of Management and Budget (OMB), Attention: Desk Officer for EPA, 725 17th Street, NW., Washington, DC 20503.

FOR FURTHER INFORMATION CONTACT: Cassandra Vail, Toxics Release Inventory Program Division, Office of Information Analysis and Access (2844T), Environmental Protection Agency, 1200 Pennsylvania Ave., NW., Washington, DC 20460; telephone number, 202-566-0753; fax number, 202-566-0740; e-mail address, vail.cassandra@epa.gov.

SUPPLEMENTARY INFORMATION: EPA submitted an earlier version of the ICR Supporting Statement to OMB for review and approval according to the procedures prescribed in 5 CFR 1320.12. On July 11, 2007 (72 FR 37762), EPA sought comments on this ICR pursuant to 5 CFR 1320.8(d). EPA received four comments during the comment period, which are addressed in the Response to Comments Document. Any additional comments on the revised ICR Supporting Statement should be submitted to EPA and OMB within 30 days of this notice.

EPA has established a public docket for the ICR described in this notice under Docket ID No. EPA-HQ-TRI-2007-0355, which is available for online viewing at http://www.regulations.gov, or in person at the OEI Docket, EPA Docket Center (EPA/DC), U.S. EPA West Building, Room 3334, 1301 Constitution Ave., NW, Washington, DC. The EPA/DC Public Reading Room is open from 8 a.m. to 4:30 p.m., Monday through Friday, excluding legal holidays. The telephone number for the Reading Room is 202-566-1744, and the telephone number for the OEI Docket is 202-566-1752.

Use EPA's electronic docket and comment system at http://www.regulations.gov to submit or view public comments, to access the index listing of the contents of the docket, and to access those documents in the docket that are available electronically. Once in the system, select “docket search,” then key in the docket ID number identified above. Please note that EPA's policy is that public comments, whether submitted electronically or in paper, will be made available for public viewing at http://www.regulations.gov as EPA receives them and without change, unless the comment contains copyrighted materials, Confidential Business Information (CBI,) or other information for which public disclosure is restricted by statute. For further information about the electronic docket, go to http://www.regulations.gov.

Title: ICR Renewal and Proposed Changes to the TRI Form R, Information Collection Request Supporting Statement.

ICR numbers: EPA ICR No. 1363.15, OMB Control No. 2070-0093.

ICR Status: The current ICR is scheduled to expire on January 31, 2008. Under OMB regulations, the Agency may continue to conduct or sponsor the collection of information while this submission is pending at OMB. The OMB control numbers for EPA's regulations in title 40 of the CFR, after appearing in the Federal Register when approved, are listed in 40 CFR part 9 and are displayed either by publication in the Federal Register or by other appropriate means, such as on the related collection instrument or form, if applicable. The display of OMB control numbers in certain EPA regulations is consolidated in 40 CFR part 9.

Abstract: The Emergency Planning and Community Right-to-Know Act (EPCRA) section 313 requires owners and operators of certain facilities that manufacture, process, or otherwise use any of certain listed toxic chemicals and chemical categories in excess of applicable threshold quantities to report annually to the U.S. Environmental Protection Agency and to the states in which such facilities are located on their environmental releases and transfers of and other waste management activities for such chemicals. In addition, section 6607 of the Pollution Prevention Act (PPA) requires facilities to provide information on the quantities of the toxic chemicals in waste streams and the efforts made to reduce or eliminate those quantities. Annual reporting under EPCRA section 313 of toxic chemical releases and other waste management information provides citizens with a useful picture of the total disposition of chemicals in their communities and helps focus industry's attention on pollution prevention and source reduction opportunities.

In accordance with the mission to protect the environment and human health, EPA believes that the public has a right to know about the disposition of chemicals within communities and the management of such chemicals by facilities in industries subject to EPCRA section 313 reporting. This reporting has been successful in providing communities with important information regarding the disposition of toxic chemicals and other waste management information of toxic chemicals from manufacturing facilities in their areas. EPA collects, processes, and makes available to the public all of the information collected that is not subject to trade secrecy claims. The information gathered under these authorities is stored in a database maintained at EPA and is available through the Internet.

This information, commonly known as the Toxics Release Inventory (TRI), is used extensively by both EPA and the public sector. Program offices within EPA use TRI data, along with other sources of data, to establish priorities, evaluate potential exposure scenarios, and undertake regulatory and enforcement activities. Environmental and public interest groups use the data in studies and reports, making the public more aware of releases of chemicals in their communities. Comprehensive publicly-available data about releases, transfers, and other waste management activities of toxic chemicals at the community level are generally not available, other than under the reporting requirements of EPCRA section 313. Permit data are often difficult to obtain, are not cross-media, and provide only a limited perspective on a facility's overall performance. With TRI, communities and governments know what toxic chemicals industrial facilities in their area release, transfer, or otherwise manage as waste. In addition, industries have an additional tool for evaluating their production efficiencies and for measuring progress on their pollution prevention goals.

Responses to the collection of information are mandatory (see 40 CFR part 372). Respondents may claim trade secrecy for a chemical's identity as described in section 322 of EPCRA and its implementing regulations in 40 CFR part 350. EPA will disclose information that is covered by a claim of trade secrecy only to the extent permitted by, and in accordance with, the procedures in 40 CFR part 350 and 40 CFR part 2. An agency may not conduct or sponsor, and a person is not required to respond to, a collection of information unless it displays a currently valid OMB control number. The OMB control numbers for EPA's regulations in 40 CFR are listed in 40 CFR part 9 and are identified on the form and/or instrument, if applicable.

Burden Statement: The annual public reporting and recordkeeping burden for this collection of information is estimated to average 29.66 hours per form for a single listed Non-PBT chemical and 51.34 hours for a single listed PBT chemical. (All estimates incorporate proposed changes in the reporting burden.) Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements which have subsequently changed; train personnel to be able to respond to a collection of information; search data sources; complete and review the collection of information; and transmit or otherwise disclose the information.

Respondents/Affected Entities: The reporting requirements found in EPCRA section 313 apply to owners and operators of facilities that have 10 or more full-time employees, manufacture or process more than 25,000 pounds or otherwise use more than 10,000 pounds of a listed chemical, and are in the manufacturing sector or in any of seven additional industry sectors added to the TRI Program by EPA in 1997. Historically these sectors were identified by their Standard Industrial Classification (SIC) codes. Beginning with Reporting Year (RY) 2006, the TRI Program converted from SIC codes to North American Industry Classification System (NAICS) codes (71 FR 32464, June 6, 2006). The full list of NAICS codes for facilities that must report to TRI (including exemptions and/or limitations) if all other threshold determinations are met can be found in Appendix F of the ICR Supporting Statement.

Estimated Number of Responses: 66,751.

Estimated Number of Respondents: 19,441.

Frequency of Response: Once per year.

Estimated Total Annual Hour Burden: 3,217,280.

Estimated Total Annual Cost: $160,790,000, includes $0 annualized capital or O&M costs.

Changes in the Estimates: In this ICR Renewal, the effect of the TRI final rule expanding Form A eligibility (71 FR 76932, December 22, 2006) is expected to reduce overall TRI reporting burden due to increased Form A eligibility (i.e., number of Form Rs decreased and number of Form As increased, yielding a net burden decrease) with total respondent burden of Form R reporting projected at 3,215,715 hours.

Proposed Changes from the Last Approval: EPA proposes to make the following changes to the ICR for the TRI Form R:

(1) Provide more specific “basis of estimate” codes (applies to Form R only.) Facilities may currently select among four codes to indicate how they calculate their release quantities: the use of monitoring data (code M), mass balance calculations (C), emission factors (E), and other approaches (O). The addition of more specific codes in the TRI Reporting Forms and Instructions will allow reporting facilities to provide more detailed information on their basis of estimate. Collecting more specific “basis of estimate” data will help the TRI Program determine which methods are most often used and/or appropriate for use by particular industries for certain chemicals, as well as when new TRI guidance may be needed. Therefore, EPA will provide a more extensive list of codes for “basis of estimate” in the TRI Reporting Forms and Instructions, including (M1) and (M2) for continuous and periodic/random monitoring, respectively; and (E1) and (E2) for published and site-specific emission factors, respectively. (Codes (C) and (O) will remain unchanged.) By using these codes, facilities will indicate the principal method used to determine the quantities reported to TRI.

(2) Enhance Public Contact information (applies to Form and Form A.) EPA proposes to add a place on the form where a facility can provide the e-mail address for the “Public Contact” on the Form R, in addition to the Public Contact name and telephone number which are already on the Form R. This should make it easier to contact the individual identified.

(3) Add boxes for entering revision codes (applies to Form R and Form A.) The TRI Program currently receives many form revisions each year, but does not currently collect information on the reasons for the revisions. EPA proposes to add new revision codes that will help both the public and the TRI Program staff understand why a facility resubmitted a form. In addition, the TRI Program may be able to analyze the revision codes entered by facilities to identify and address recurring reporting issues that facilities may be facing, ultimately reducing errors and saving time for both the Agency and the reporting facilities. Facilities would be able to report up to two codes (listed and defined in the TRI Reporting Forms and Instructions) indicating the main reason(s) that a form is being revised.

(4) Provide a field for withdrawing a form and add boxes for entering withdrawal Codes (applies to Form R and Form A.) Currently, a facility that wishes to withdraw a previously submitted form must submit its request, including the rationale, as a hard copy memorandum to the TRI Data Processing Center. Adding a “Withdrawal” field and associated code boxes for reasons for withdrawal to Form R will (1) streamline the withdrawal process for facilities, (2) make it easier for EPA to automate the withdrawal process, and (3) improve the Agency's ability to analyze the reasons for withdrawals.

Notes

1. EPA also proposed other changes (72 FR 37762; July 11, 2007) but has since concluded those changes are not necessary.

2. Additional changes were made to adjust estimates for “Number of Responses” and “Burden Hours” to reflect the most recent conditions of RY2005. In the last ICR, RY2002 was the base year; in the last OMB Action, RY2004 was the base year. Over this period of time, the total number of Form R submissions declined.

Dated: December 11, 2007.
Sara Hisel-McCoy,
Director, Collection Strategies Division.

[FR Doc. E7-24369 Filed 12-14-07; 8:45 am]

BILLING CODE 6560-50-P